DEPARTMENT OF EDUCATION

[CFDA No.: 84.305T]

Office of Educational Research and Improvement; Field-Initiated Studies (FIS) Education Research Grant Program; Notice Inviting Applications for Second Competition of New Awards for Fiscal Year (FY) 2001

Purpose of Program: The Field-Initiated Studies (FIS) Education Research Grant Program awards grants to conduct education research in which topics and methods of study are generated by investigators.

Eligible Applicants: Institutions of higher education; State and local education agencies; public and private organizations, institutions, and agencies; and individuals.

Applications Available: February 9, 2001.

Application packages will be available by mail and electronically on the World Wide Web at the following sites:

http://www.ed.gov/offices/OERI/FIS/

www.ed.gov/GrantApps/

Deadline for Transmittal of Applications: April 3, 2001.

Deadline for Receipt of Letters of Intent: March 5, 2001.

Note: A Letter of Intent is optional, but encouraged, for each application. The Letter of Intent is for OERI planning purposes and will not be used in the evaluation of the application. Instructions for the Letter of Intent will be in the application package.

Estimated Available Funds: Approximately $6 million for the second FY 2001 FIS cycle.

Estimated Range of Awards: The size of the awards will be commensurate with the nature and scope of the work proposed. In the most recent FIS competition, the grant awards ranged from approximately $77,000 to about $660,000 (for 12 months).

Budget Period: 12-month period.

Project Period: 12 to 36 months.

Note: The Department is not bound by any estimates in this notice.

Page Limit: The application narrative may not exceed the equivalent of 20 double-spaced pages, with printing on only one side of 8½ x 11-inch paper. Our reviewers will not read any pages of your application that—

• Exceed the page limit if you apply these standards; or

• Exceed the equivalent of the page limit if you apply other standards.

Thus we will remove all pages in excess of the 20-page narrative maximum or its equivalent.

Note: We have found that reviewers are able to conduct the highest quality review when applications are concise and easy to read. We strongly encourage applicants to use a 12-point or larger size font, one-inch margins at the top, bottom, and both sides, and pages numbered consecutively.

Applicable Regulations: (a) The Education Department General Administrative Regulations (EDGAR) in 34 CFR parts 74, 75, 77, 80, 81, 82, 85, 86 (part 86 applies to IHEs only), 97, 98, and 99. (b) The regulations in 34 CFR part 700.

Application Review Procedures: On September 22, 2000 we published in the Federal Register (65 FR 57326-57327) a Notice of Application Review Procedures for New Awards for FY 2001. That notice will apply to the awards to be made under this announcement.

SUPPLEMENTARY INFORMATION: The FIS Education Research Grant Program is highly competitive. Strong applications for FIS grants clearly address each of the applicable selection criteria. They make a well-reasoned and compelling case for the national significance of the problems or issues that will be the subject of the proposed research, and present a research design that is complete, clearly delineated, and incorporates sound research methods. In addition, the personnel descriptions included in strong applications make it apparent that the project director, principal investigator, and other key personnel possess training and experience commensurate with their duties.

The project period of the grant may be from one to three years. In the application, the project period should be divided into 12-month budget periods. Each 12-month budget should be clearly delineated and justified in terms of the proposed activities.

Collaboration: We encourage collaboration in the conduct of research. For example, major research universities and institutions may collaborate with historically underrepresented institutions, such as Historically Black Colleges and Universities, Hispanic-Serving Institutions, and Tribal Colleges and Universities.

For Applications Contact: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its web site:

http://www.ed.gov/pubs/edpubs.html

Or you may contact ED Pubs at its E-mail address:

Edpubs@inet.ed.gov

If you request an application from ED Pubs, be sure to identify this competition as follows: CFDA Number 84.305T.

FOR FURTHER INFORMATION CONTACT: Elizabeth Payer, Field-Initiated Studies Education Research Grant Program, Office of Educational Research and Improvement, U.S. Department of Education, 555 New Jersey Avenue, NW., Washington, DC 20208-5645. Telephone: (202) 219-1310 or via Internet:

Elizabeth_Payer@ed.gov

Or you may contact Beth Fine, at the same program and address, but use the following zip code: 20208-5521. Telephone: (202) 219-1323 or via Internet:

Beth_Fine@ed.gov

If you use a telecommunications device for the deaf (TDD), you may call the Federal Information Relay Service (FIRS) at 1-800-877-8339.

Individuals with disabilities may obtain this document in an alternative format (e.g., Braille, large print, audiotape, or computer diskette) on request to the program contact persons listed under FOR FURTHER INFORMATION CONTACT.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at either of the following sites:

http//ocfo.ed.gov/fedreg.htm

http://www.ed.gov/news.html

To use PDF, you must have Adobe Acrobat Reader, which is available free at either of the previous sites. If you have questions about using PDF, call the U.S. Government Printing Office (GPO), toll free, at 1-888-293-6498 or in the Washington, DC, area at (202) 512-1530.

Note: The official version of this document is the document published in the Federal Register. Free Internet access to the official edition of the Federal Register and the Code of Federal Regulations is available on GPO Access at:

http://www.access.gpo.gov/nara/index.html

Program Authority: 20 U.S.C. 6031(c)(2)(B).

Dated: January 17, 2001.
C. Kent McGuire,
Assistant Secretary for Educational Research and Improvement.

[FR Doc. 01-1972 Filed 1-22-01; 8:45 am]

BILLING CODE 4000-01-P